DEPARTMENT OF THE TREASURY

Internal Revenue Service

Open Meeting of Taxpayer Advocacy Panel Taxpayer Burden Reduction Project Committee

AGENCY: Internal Revenue Service (IRS), Treasury.

ACTION: Notice of meeting.

SUMMARY: An open meeting of the Taxpayer Advocacy Panel Taxpayer Burden Reduction Project Committee will be conducted. The Taxpayer Advocacy Panel is soliciting public comments, ideas, and suggestions on improving customer service at the Internal Revenue Service.

DATES: The meeting will be held Tuesday, May 1, 2012 and Wednesday May 2, 2012.

FOR FURTHER INFORMATION CONTACT: Audrey Y. Jenkins at 1-888-912-1227 or 718-488-2085.

SUPPLEMENTARY INFORMATION: Notice is hereby given pursuant to section 10(a)(2) of the Federal Advisory Committee Act, 5 U.S.C. App. (1988) that an open meeting of the Taxpayer Advocacy Panel Taxpayer Burden Reduction Project Committee will be held Tuesday, May 1, 2012, at 8 a.m. to 4:30 p.m. and Wednesday, May 2, 2012 from 8 a.m. to 12 p.m. Eastern Time at 10 MetroTech Center, 625 Fulton Street, Brooklyn, NY 11201. The public is invited to make oral comments or submit written statements for consideration. Notifications of intent to participate must be made with Ms. Jenkins. For more information please contact Ms. Jenkins at 1-888-912-1227 or 718-488-2085, or write TAP Office, 10 MetroTech Center, 625 Fulton Street, Brooklyn, NY 11201, or post comments to the Web site: http://www.improveirs.org.

The agenda will include various IRS issues.

Dated: March 26, 2012.
Louis Morizio,
Acting TAP Director, Taxpayer Advocacy Panel.

[FR Doc. 2012-8418 Filed 4-6-12; 8:45 am]

BILLING CODE 4830-01-P